SECURITIES AND EXCHANGE COMMISSION

[Release No. 35-27258]

Filings Under the Public Utility Holding Company Act of 1935, as Amended (“Act”)

October 20, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by November 14, 2000, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After November 14, 2000, the application(s) and/or declaration(s), as filed or as amended, may be granted and/or permitted to become effective.

American Electric Power Co. (70-5943)

American Electric Power Company, Inc. (“AEP”), a registered holding company located at 1 Riverside Plaza, Columbus, Ohio 43215, has filed a post-effective amendment under sections 6(a) and 7 of the Act and rule 54 under the Act to a previously filed declaration.

AEP is currently authorized to issue up to 55,200,000 shares of its common stock (“Common Stock”) under AEP's Dividend Reinvestment and Stock Purchase Plan (“DRP”) through December 31, 2000.¹ AEP states that, as of June 30, 2000, 7,426,406 shares of Common Stock (“Remaining Shares”) have not yet been issued. AEP now requests authority to issue the Remaining Shares, in accordance with the DRP, through September 30, 2006.

¹ Under the terms of the most recent order in this file, AEP was allowed to issue up to 54 million shares of its common stock through December 31, 2000. See American Electric Power, HCAR No. 26553 (August 13, 1996). In an order authorizing AEP to acquire all of the outstanding common stock of Cental and South West Corporation, a registered holding company, the authority of the CSW Dividend Reinvestment and Stock Purchase Plan was terminated and AEP was authorized to issue an additional 1.2 million shares of its common stock under the DRP through December 31, 2000, for an aggregate of 55.2 million shares. See American Electric Power, HCAR No. 27186 (June 14, 2000).

AEP states that the proceeds of the issuance and sale of the Remaining Shares will be used to pay certain unsecured debts of AEP as they mature, make additional investments in common stock equities of AEP subsidiaries, and for other corporate purposes, including the acquisition of exempt wholesale generators and foreign utility companies.

GPU, Inc. (70-7670)

GPU, Inc. (“GPU”), 300 Madison Avenue, Morristown, New Jersey 07960, a registered holding company, has filed a post-effective amendment to its application-declaration under sections 6(a) and 7 of the Act and rules 53 and 54 under the Act.

By orders of the Commission dated October 23, 1989 (HCAR No. 24971) and December 8, 1995 (HCAR No. 26425) (respectively, “1989 Order” and “1995 Order” and, collectively, “Orders”), GPU was authorized to issue and sell, from time to time through December 31, 2000, under a Dividend Reinvestment and Stock Purchase Plan (“Plan”), up to 2.5 million shares of its common stock, $2.50 par value (“Common Stock”). Common Stock is purchased under the Plan either on the open market or directly from GPU in the form of authorized but unissued shares or previously reacquired shares, as GPU may direct, by the administrator of the Plan.

GPU now proposes to extend to December 31, 2010 the time it may issue and sell authorized but unissued and reacquired shares of Common Stock under the Plan.

GPU, Inc., et al. (70-8937)

GPU, Inc. (“GPU”), a registered public utility holding company, and its wholly-owned subsidiary companies, GPU Service, Inc. (“GPUS”), both located at 300 Madison Avenue, Morristown, New Jersey 07960, and GPU International, Inc. (“GPUI”), located at One Upper Pond Road, Parsippany, New Jersey 07054, have filed with this Commission a post-effective amendment under sections 6(a), 7, and 12(b) of the Act and rules 45 and 54 under the Act to an application-declaration previously filed under the Act.

By orders dated April 10, 1997 (HCAR No. 26702) and March 26, 1997 (HCAR No. 26694) (“Orders”), the Commission authorized, among other things, GPU, through December 31, 2000, to guarantee the debt of each of their direct and indirect subsidiaries that engage in bordering and marketing of electricity, natural gas and other energy commodities throughout the United States (“Energy Subsidiaries”) under rule 58 under the Act. The maximum amount of guarantee debt and other obligations authorized at any one time is $150 million. The Orders also authorize GPU and GPUI to invest, through December 31, 2000, in the aggregate no more than $20 million in the energy commodities business either by the acquisition of securities or by making capital contributions to existing subsidiaries of GPU and/or GPUI.

GPU and GPUI now request an extension of time during which GPU may guarantee the debt of the Energy Subsidiaries and GPU and GPUI may invest in the energy commodities business until December 31, 2003. In all other respects, the terms and conditions of the transactions authorized by the Commission in this file would remain unchanged.

For the Commission, by the Division of Investment Management, under delegated authority.
Margaret H. McFarland,
Deputy Secretary.

[FR Doc. 00-27614 Filed 10-26-00; 8:45 am]

BILLING CODE 8010-01-M